ENVIRONMENTAL PROTECTION AGENCY

[FRL-8758-1]

Scientific Workshop To Inform EPA's Response to National Academy of Science Comments on the Health Effects of Dioxin in EPA's 2003 Dioxin Reassessment

AGENCY: Environmental Protection Agency (EPA).

ACTION: Notice of scientific workshop and poster submissions.

SUMMARY: The National Center for Environmental Assessment (NCEA), a part of the U.S. Environmental Protection Agency's (EPA) Office of Research and Development, is sponsoring a three-day public, scientific workshop, including a public review of the recent scientific literature on 2,3,7,8-Tetrachlorodibenzo-p-Dioxin (TCDD) dose-response, to assist EPA in responding to the National Academy of Sciences (NAS) report, Health Risks from Dioxin and Related Compounds: Evaluation of the EPA Reassessment (NAS, 2006). (See 73 FR 70999 for information on the preliminary literature search results for TCDD dose-response. The literature search was conducted in collaboration with the Department of Energy's Argonne National Laboratories.) The Track Group, an EPA contractor, will organize and facilitate the workshop.

Members of the public may attend the workshop as observers and may participate in open comment periods. Space is limited and registrations will be accepted on a first-come, first-served basis. As part of the registration process, members of the public may choose to submit a poster citation and abstract limited to 250 words. Space for displaying posters is limited, and abstract submissions will be accepted on a first-come, first-served basis.

DATES: The workshop will be held February 18-20, 2009, from 8 a.m. to 6 p.m. A poster session will be held on February 19, 2009, from 6:30 p.m. to 8 p.m. During this time, workshop participants will view the posters, and poster authors should be available to answer questions. Posters may be installed and displayed between the hours of 8 a.m. and 8 p.m. on February 19, 2009, and must be taken down at the end of that time. To ensure presentation of a poster, poster abstracts must be submitted to EPA's contractor, The Track Group, in advance of the workshop with a deadline of January 23, 2009.

ADDRESSES: The workshop will be held at the Hilton Cincinnati Netherland Plaza, 35 West Fifth St., Cincinnati, Ohio 45202; telephone: (513) 421-9100. The Track Group, an EPA contractor, is organizing and facilitating the workshop. A special conference room rate is available by mentioning “the Dioxin Workshop.” Registration and poster abstract submission are available online at http://dioxinworkshop.eventbrite.com or call the conference registration line at (703) 738-4633. To obtain copies of background information, please see the NCEA Web site: http://www.epa.gov/ncea/; copies are not available from The Track Group.

Special Accomodations: EPA welcomes the attendance of the public at this workshop and will make every effort to accommodate persons with disabilities. If you require special accommodations due to a disability, please contact The Track Group, 85 S. Bragg Street, Suite 301, Alexandria, VA 22312; telephone: (703) 738-4633, facsimile: (703) 997-0760, at least 7 days before the workshop.

FOR FURTHER INFORMATION CONTACT: For workshop information, registration, and logistics, contact The Track Group, 85 S. Bragg Street, Suite 301, Alexandria, VA 22312; telephone: (703) 738-4633; facsimile: (703) 997-0760.

For technical information, contact Glenn E. Rice, National Center for Environmental Assessment, (Mail Code: MS A-110), Office of Research and Development, U.S. Environmental Protection Agency, Cincinnati, OH 45268; telephone: (513) 569-7813; facsimile: (513) 487-2539; or e-mail: rice.glenn@epa.gov.

SUPPLEMENTARY INFORMATION: This workshop is designed to inform EPA's response to the NAS report, Health Risks from Dioxin and Related Compounds: Evaluation of the EPA Reassessment (NAS, 2006), by enlisting expert scientist and public comment and input. The main objectives of the workshop are to (1) identify the key significant comments offered by the NAS in their evaluation of the TCDD dose-response assessment in the EPA Reassessment (EPA, 2003), (2) discuss approaches for addressing these comments, and (3) identify the key published literature needed to support the EPA response.

The three key findings of the NAS (2006) were for EPA to address: “(1) Justification of approaches to dose-response modeling for cancer and noncancer endpoints, (2) transparency and clarity in selection of key data sets for analysis, and (3) transparency, thoroughness and clarity in quantitative uncertainty analysis.” EPA's goal for this open, public workshop is to ensure that its technical response focuses on the key issues and considers the most meaningful science to inform its understanding of these issues, while maintaining transparency throughout the process and providing opportunity for outside comment and input.

Participants in the workshop will consist of a wide range of invited scientific experts and EPA scientific staff, representing a variety of areas of expertise related to TCDD. Public participation opportunities include designated open comment periods and an evening scientific poster session. The purpose of the poster session is to provide a forum for scientists to present recent studies relevant to TCDD dose-response assessment. Scientists with significant expertise and experience with TCDD or dioxin-related compound biology will be invited to serve on expert panels for discussions throughout the workshop. These expert panels will be asked to highlight significant and emerging TCDD research and make recommendations to EPA regarding the design and scope of the dose-response analyses for TCDD, including recommendations for evaluating associated uncertainties. Open comment periods will be included in the agenda following each expert panel discussion.

Preliminary information on the program agenda is available on the NCEA Web page at http://www.epa.gov/ncea/. Recommendations from the expert panels will be made available on the NCEA Web page after the workshop.

Dated: December 17, 2008.
Peter W. Preuss,
Director, National Center for Environmental Assessment.

[FR Doc. E8-30811 Filed 12-24-08; 8:45 am]

BILLING CODE 6560-50-P